DEPARTMENT OF JUSTICE

Antitrust Division

Notice Pursuant to the National Cooperative Research and Production Act of 1993—Canton Foundation (F/K/A Global Synchronizer Foundation)

Notice is hereby given that, on July 28, 2025, pursuant to section 6(a) of the National Cooperative Research and Production Act of 1993, 15 U.S.C. 4301 et seq. (“the Act”), Canton Foundation f/k/a Global Synchronizer Foundation (“Canton Foundation”) has filed written notifications simultaneously with the Attorney General and the Federal Trade Commission disclosing changes in its membership. The notifications were filed for the purpose of extending the Act's provisions limiting the recovery of antitrust plaintiffs to actual damages under specified circumstances. Global Synchronizer Foundation has changed its name to: Canton Foundation.

Specifically, Ubyx Inc., Wilmington, DE; Fairmint Inc., Dover, DE; 4M Group LLC, Wyckoff, NJ; 5 North Inc., New York, NY; AngelHack Pte Ltd., Singapore, REPUBLIC OF SINGAPORE; BitSafe, North Andover, MA; HSBC, London, UNITED KINGDOM; Kaiko, New York, NY; Lukka, Inc., Naples, FL; TRM Labs, Inc., San Francisco, CA; and SBI Holdings, Inc., Tokyo, JAPAN, have been added as parties to this venture.

Also, SBI Digital Asset Holdings Co., Ltd., Tokyo, JAPAN, has withdrawn as a party to this venture.

No other changes have been made in either the membership or planned activity of the group research project. Membership in this group research project remains open, and Canton Foundation intends to file additional written notifications disclosing all changes in membership.

On September 18, 2024, Canton Foundation filed its original notification pursuant to section 6(a) of the Act. The Department of Justice published a notice in the Federal Register pursuant to section 6(b) of the Act on October 11, 2024 (89 FR 82632).

The last notification was filed with the Department on May 19, 2025. A notice was published in the Federal Register pursuant to section 6(b) of the Act on June 13, 2025 (90 FR 25081).

Suzanne Morris,
Deputy Director Civil Enforcement Operations, Antitrust Division.

[FR Doc. 2025-15667 Filed 8-15-25; 8:45 am]

BILLING CODE P